DEPARTMENT OF COMMERCE

Office of the Secretary

Strengthening America's Communities Advisory Committee

AGENCY: Office of the Secretary, Department of Commerce.

ACTION: Notice of open teleconference meeting.

SUMMARY: The Strengthening America's Communities Advisory Committee (the “Committee”) will convene an open teleconference meeting on Monday, June 27, 2005 to discuss the status of its report and to address other Committee business (as necessary). Members of the public may listen to the meeting by using the teleconference call-in number and pass code provided below.

DATES: Monday, June 27, 2005, beginning at 2:10 p.m. (EDT).

ADDRESSES: Telephone: Beginning at 2 p.m. (EDT) on June 27, 2005, members of the public may call 1-888-677-1801 and dial pass code 6594056 to access the teleconference. Pre-registration is not required in advance of the call.

FOR FURTHER INFORMATION CONTACT: Mr. Robert E. Olson, Designated Federal Officer of the Committee, Economic Development Administration, Department of Commerce, Room 7015, 1401 Constitution Avenue, NW., Washington, DC 20230; telephone (202) 482-4495; facsimile (202) 482-2838; e-mail: saci@eda.doc.gov. Please note that any correspondence sent by regular mail may be substantially delayed or suspended in delivery, since all regular mail sent to the Department of Commerce (the “Department”) is subject to extensive security screening. For information about the Initiative, please visit the Department's Web site at http://www.commerce.gov/SACI/index.htm.

SUPPLEMENTARY INFORMATION: The Committee will convene a teleconference meeting on Monday, June 27, 2005 to discuss the status of its report and to address other Committee business that may arise during the course of the meeting. Members of the public may listen to the meeting by using the teleconference call-in number and pass code set forth above (see ADDRESSES/Telephone section above). The Committee will not be receiving public comment during the meeting; however, the Committee welcomes interested persons to submit written comments to the Committee's Designated Federal Officer listed above at any time before or after the meeting. To facilitate distribution of written statements to Committee members prior to the meeting, the Committee suggests that written statements be submitted to the Designated Federal Officer by facsimile or e-mail no later than June 22, 2005.

The prospective agenda for the Committee meeting is as follows:

June 27, 2005

Call to Order

Opening Remarks

Discussion of Draft Report; and

Review and Discussion of Other Committee Issues (as necessary)

This agenda is subject to change. Any changes to the agenda will be posted on the Department's Web site at http://www.commerce.gov/SACI/index.htm.

Dated: June 7, 2005.
David Bearden,
Deputy Assistant Secretary of Commerce for Economic Development.

[FR Doc. 05-11583 Filed 6-9-05; 8:45 am]

BILLING CODE 3510-24-P